DEPARTMENT OF ENERGY

Federal Energy Regulatory Commission

Notice of FERC Staff Attendance at Southwest Power Pool Board of Directors/Members Committee Meetings and Southwest Power Pool Regional State Committee Meeting

December 4, 2006.

The Federal Energy Regulatory Commission hereby gives notice that members of its staff may attend the meetings of the Southwest Power Pool (SPP) Board of Directors/Members Committee and SPP Regional State Committee noted below. Their attendance is part of the Commission's ongoing outreach efforts.

Board of Directors/Members Committee

December 12, 2006 (8 a.m.-3 p.m.) , DFW Airport Hyatt Regency, International Parkway, Dallas, Texas 75261, 972-453-1234.

SPP Regional State Committee

January 29, 2007 (1 p.m.-5 p.m.), Hilton Palacia Del Rio, The Pavilion, 200 South Alamo Street, San Antonio, Texas 78205, 210-222-1400.

Board of Directors/Members Committee

January 30, 2007 (8 a.m.-3 p.m.), Hilton Palacia Del Rio, The Pavilion, 200 South Alamo Street, San Antonio, Texas 78205, 210-222-1400.

The discussions may address matters at issue in the following proceedings:

Docket No. ER05-799, Southwest Power Pool, Inc.

Docket No. ER05-526, Southwest Power Pool, Inc.

Docket No. ER05-106, Entergy Services, Inc.

Docket No. ER05-1416, Southwest Power Pool, Inc.

Docket No. EL06-83, Southwest Power Pool, Inc.

Docket No. ER06-432, Southwest Power Pool, Inc.

Docket No. ER06-448, Southwest Power Pool, Inc.

Docket No. ER06-451, Southwest Power Pool, Inc.

Docket No. ER06-1047, Southwest Power Pool, Inc.

Docket No. ER06-729, Southwest Power Pool, Inc.

Docket No. ER06-767, Southwest Power Pool, Inc.

Docket No. ER06-1467, Southwest Power Pool, Inc.

Docket No. EC06-46, Southwest Power Pool, Inc.

Docket Nos. EL06-61 and EL06-71, Associated Electric Cooperative, Inc. v Southwest Power Pool

Docket No. ER06-1362, Southwest Power Pool, Inc.

Docket No. ER06-1232, Southwest Power Pool, Inc.

Docket No. ER07-14, Southwest Power Pool, Inc.

Docket No. ER07-200, Southwest Power Pool, Inc.

Docket No. ER07-211, Southwest Power Pool, Inc.

These meetings are open to the public.

For more information, contact John Rogers, Office of Energy Markets and Reliability, Federal Energy Regulatory Commission at (202) 502-8564 or john.rogers@ferc.gov.

Magalie R. Salas,
Secretary.

[FR Doc. E6-21049 Filed 12-11-06; 8:45 am]

BILLING CODE 6717-01-P